DEPARTMENT OF COMMERCE

National Oceanic and Atmospheric Administration

RIN 0648-XR016

Endangered and Threatened Species; Initiation of 5-Year Review for the Scalloped Hammerhead Shark Central & Southwest Atlantic, Eastern Atlantic, Eastern Pacific, and Indo-West Pacific Distinct Population Segments

AGENCY: National Marine Fisheries Service (NMFS), National Oceanic and Atmospheric Administration (NOAA), Commerce.

ACTION: Notice of initiation of 5-year review; request for information.

SUMMARY: NMFS announces its intent to conduct a 5-year review for the four distinct population segments (DPSs) of the scalloped hammerhead shark (Sphyrna lewini): Eastern Atlantic DPS, Eastern Pacific DPS, Central & Southwest Atlantic DPS, and Indo-West Pacific DPS. NMFS is required by the Endangered Species Act (ESA) to conduct 5-year reviews to ensure that listing classifications of species are accurate. The 5-year review must be based on the best scientific and commercial data available at the time of the review. We request submission of any such information on these scalloped hammerhead shark DPSs, particularly information on the status, threats, and recovery of the DPSs that have become available since their listing on July 3, 2014 (79 FR 38214).

DATES: To allow us adequate time to conduct this review, we must receive your information no later than November 5, 2019. However, we will continue to accept new information about any listed species at any time.

ADDRESSES: You may submit information on this document identified by NOAA-NMFS-2019-0071 by either of the following methods:

• Electronic submission: Submit electronic information via the Federal e-Rulemaking Portal. Go to www.regulations.gov. To submit information via the e-Rulemaking Portal, first click the “submit a comment” icon, then enter NOAA-NMFS-2019-0071 in the keyword search. Locate the document you wish to respond to from the resulting list and click on the “Submit a Comment” icon on the right of that line.

• Mail or Hand-Deliver: Submit written comments to Endangered Species Conservation Division, Office of Protected Resources, NMFS, 1315 East-West Highway, Room 13626, Silver Spring, MD 20910; Attn: Quibilah Barnes.

Instructions: Information must be submitted by one of the above methods to ensure that the information is received, documented, and considered by NMFS. Information sent by any other method, to any other address or individual, or received after the end of the specified period, may not be considered. All information received is a part of the public record and will generally be posted for public viewing on www.regulations.gov without change. All personal identifying information (e.g., name, address, etc.), confidential business information, or otherwise sensitive or protected information submitted voluntarily by the sender will be publicly accessible. NMFS will accept anonymous submissions (enter “N/A” in the required fields if you wish to remain anonymous).

FOR FURTHER INFORMATION CONTACT: Therese Conant at the above address (attn.: Quibilah Barnes), by phone at (916) 930-3627 or therese.conant@noaa.gov.

SUPPLEMENTARY INFORMATION: This notice announces our review of the status of the endangered Eastern Atlantic DPS, endangered Eastern Pacific DPS, threatened Central & Southwest Atlantic DPS, and threatened Indo-West Pacific DPS of scalloped hammerhead shark. Section 4(c)(2)(A) of the ESA requires that we conduct a review of listed species at least once every five years. The regulations in 50 CFR 424.21 require that we publish a notice in the Federal Register announcing species currently under active review. On the basis of such reviews under section 4(c)(2)(B), we determine whether a species should be delisted or reclassified from endangered to threatened or from threatened to endangered. As described by the regulations in 50 CFR 424.11(d), delisting a species must be supported by the best scientific and commercial data available and only considered if such data substantiates that the species is neither endangered nor threatened for one or more of the following reasons: (1) The species is considered extinct; (2) the species is considered to be recovered; or (3) the original data available when the species was listed, or the interpretation of such data, were in error. Any change in Federal classification would require a separate rulemaking process. The scalloped hammerhead shark DPSs were listed under the ESA on July 3, 2014 (79 FR 38214).

Background information on the scalloped hammerhead shark DPSs is available on the NMFS website at: https://www.fisheries.noaa.gov/species/scalloped-hammerhead-shark.

Determining if a Species Is Threatened or Endangered

Section 4(a)(1) of the ESA requires that we determine whether a species is endangered or threatened based on one or more of the five following factors: (1) The present or threatened destruction, modification, or curtailment of its habitat or range; (2) overutilization for commercial, recreational, scientific, or educational purposes; (3) disease or predation; (4) the inadequacy of existing regulatory mechanisms; or (5) other natural or manmade factors affecting its continued existence. Section 4(b) also requires that our determination be made on the basis of the best scientific and commercial data available after conducting a review of the status of the species and after taking into account those efforts, if any, being made by any State or foreign nation, to protect such species.

Public Solicitation of New Information

To ensure that the 5-year review is complete and based on the best available scientific and commercial data, we are soliciting new information from the public, governmental agencies, Tribes, the scientific community, industry, environmental entities, and any other interested parties concerning the status of the listed scalloped hammerhead DPSs. Categories of requested information include: (1) Species biology including, but not limited to, population trends, distribution, abundance, demographics, and genetics; (2) habitat conditions including, but not limited to, amount, distribution, and important features for conservation; (3) status and trends of threats; (4) conservation measures that have been implemented that benefit the species, including monitoring data demonstrating effectiveness of such measures; (5) need for additional conservation measures; and (6) other new information, data, or corrections including, but not limited to, taxonomic or nomenclatural changes and improved analytical methods for evaluating extinction risk.

If you wish to provide information for the 5-year reviews, you may submit your information and materials electronically or via mail (see ADDRESSES section). We request that all information be accompanied by supporting documentation such as maps, bibliographic references, or reprints of pertinent publications. We also would appreciate the submitter's name, address, and any association, institution, or business that the person represents; however, anonymous submissions will also be accepted.

Authority: 16 U.S.C. 1531 et seq.

Dated: September 3, 2019.
Angela Somma,
Chief, Endangered Species Division, Office of Protected Resources, National Marine Fisheries Service.

[FR Doc. 2019-19294 Filed 9-5-19; 8:45 am]

BILLING CODE 3510-22-P